DEPARTMENT OF COMMERCE

National Oceanic and Atmospheric Administration

[I.D. 102306A]

Vessel Monitoring Systems; Announcement of the Enhanced Mobile Transmitter Unit Reimbursement Program for the Reef Fish Fishery of the Gulf of Mexico

AGENCY: National Marine Fisheries Service (NMFS), National Oceanic and Atmospheric Administration (NOAA), Commerce.

ACTION: Notice.

SUMMARY: NMFS announces the availability of grant funds for vessel owners and/or operators who have purchased an Enhanced Mobile Transmitter Unit (E-MTU) to comply with fishery regulations requiring the use of Vessel Monitoring Systems (VMS) in the Reef Fish Fishery of the Gulf of Mexico. These funds will be used to reimburse vessel owners and/or operators for the purchase price of the E-MTU.

FOR FURTHER INFORMATION CONTACT: For current listing information, questions regarding VMS installation or activation checklists, contact the VMS Support Center, NOAA Fisheries Office for Law Enforcement (OLE), 8484 Georgia Avenue, Suite 415, Silver Spring, MD 20910, phone 888-219-9228, fax 301-427-0049.

For questions regarding E-MTU type approval or information regarding the status of VMS systems being evaluated by NOAA for approval, contact Jonathan Pinkerton, National VMS Program Manager, phone 301-427-2300; fax 301-427-2055.

For questions regarding reimbursement applications contact Randy Fisher, Executive Director, Pacific States Marine Fisheries Commission (PSMFC), 205 SE Spokane Street, Suite 100, Portland, OR 97202, phone 503-595-3100, fax 503-595-3232.

SUPPLEMENTARY INFORMATION:

I. Funding Opportunity Description

This reimbursement opportunity is available to fishing vessel owners and/or operators that have purchased an approved E-MTU device in order to comply with fishery regulations developed in accordance with the Magnuson-Stevens Fishery Conservation and Management Act (Public Law 94-265). Only those vessel owners and/or operators purchasing an E-MTU for compliance with fishery management regulations applicable to the Reef Fish Fishery of the Gulf of Mexico are eligible for this funding opportunity. The reimbursable expense is the purchase price of the least expensive E-MTU type-approved for the Reef Fish Fishery of the Gulf of Mexico for which the owner and/or operator holds a valid commercial fishing permit.

II. Eligibility

To be eligible to receive reimbursement, vessel owners and/or operators must first purchase an E-MTU type-approved for in the Reef Fish Fishery of the Gulf of Mexico for which the vessel owner and/or operator holds a valid commercial fishing permit. The vessel owner and/or operator must also have the E-MTU properly installed on the vessel and activated utilizing a type-approved communications provider. Upon completion of the installation and activation process, the vessel owner and/or operator must contact the VMS Support Center by calling 888-219-9228 to ensure the vessel is properly registered in the VMS system. OLE does not consider a vessel in compliance until the E-MTU signal has been received and processed by OLE.

Vessel owners and/or operators must not be in arrears with a payment owed to the Agency for a civil monetary penalty. However, affected vessel owners and/or operators may become eligible for the reimbursement if the outstanding penalty is paid in full within 30 days of the denial of the reimbursement. After payment, vessel owners and/or operators must contact the VMS Support Center and provide documentation to support the defrayment of the penalty to receive a confirmation code for reimbursement purposes.

III. Process

Vessel owners and/or operators that have purchased an E-MTU, and have validated their compliance with the applicable regulations through OLE, may contact the PSMFC, 205 SE Spokane Street, Suite 100, Portland, OR 97202, phone 503-595-3100, fax 503-595-3232, for a reimbursement application. Once the application is received and completed by the vessel owner and/or operator, it must be returned to PSMFC along with proof of eligibility in order to qualify for an award. The required proof of eligibility must include: proof of a valid commercial fishing permit for the Reef Fish Fishery of the Gulf of Mexico; proof of purchase and the purchase price of a type-approved E-MTU; and a valid compliance confirmation code issued by OLE.

Vessel owners and/or operators are not restricted as to which type-approved E-MTU device they can purchase. However, the amount of the reimbursement will be limited to the cost of the least expensive E-MTU type-approved for the permitted fishery. Vessel owners and/or operators are encouraged to compare the features of all E-MTU devices type-approved for the Reef Fish Fishery of the Gulf of Mexico and explore finance options prior to making a purchase decision. Vessel owners/operators are limited to the reimbursement of the cost of purchasing E-MTU per permitted vessel.

Dated: October 26, 2006.
William T. Hogarth,
Assistant Administrator for Fisheries, National Marine Fisheries Service.

[FR Doc. 06-8980 Filed 10-26-06; 2:50 pm]

BILLING CODE 3510-22-S